DEPARTMENT OF TRANSPORTATION

Federal Aviation Administration

Notice of Intent To Rule on Request To Release Airport Property at the Fallbrook Community Airpark, Fallbrook, CA

AGENCY: Federal Aviation Administration (FAA), DOT.

ACTION: Notice of Request to Release Airport Property.

SUMMARY: The FAA proposes to rule and invites public comment on the release of two parcels, approximately four acres, of land at Fallbrook Community Airpark, Fallbrook, California, from all restrictions of the surplus property agreement. The land will be used to widen the Mission Road from two lanes to four lanes to improve the traffic flow in the Fallbrook area.

DATES: Comments must be received on or before March 22, 2001.

ADDRESSES: Comments on this application may be mailed or delivered in triplicate to the FAA at the following address: Federal Aviation Administration, Airports Division, 15000 Aviation Blvd., Lawndale, CA 90261. In addition, one copy of any comments submitted to the FAA must be mailed or delivered to Mr. Robert A. Durant, Manager, Department of Public Works, County of San Diego, 5469 Kearny Villa Rd., Suite 305, San Diego, CA 92123-1142.

FOR FURTHER INFORMATION CONTACT: Mr. Ellsworth Chan, Manager, Safety & Standards Branch, AWP-620, 15000 Aviation Blvd., Lawndale, CA 90261, Telephone: (301) 725-3620. The request to release airport property may be reviewed in person at this same location.

SUPPLEMENTARY INFORMATION: On April 5, 2000, new authorizing legislation became effective. That bill, the Wendell H. Ford Aviation Investment and Reform Act for the 21st Century (AIR 21), Public Law 10-181 (Apr. 5, 2000; 114 Stat. 61), requires that a 30 day public notice must be provided before the Secretary may waive any condition imposed on an interest in surplus property.

The following is a brief overview of the request:

County of San Diego requested the release of two parcels of land, approximately four acres, of airport property at Fallbrook Community Airpark, Fallbrook, California, from surplus property agreement obligations. The purpose of the release is to permit the sale of the property to San Diego County Roads Division for non-aviation uses. San Diego County Roads Division proposes to use the property for widening the Mission Road from two lanes to four lanes to improve the traffic flow in the Fallbrook area. The net proceeds will be utilized for airport improvements.

Issued in Hawthorne, California, on February 7, 2001.
Ellsworth Chan,
Acting Manager, Airports Division, Western-Pacific Region.

[FR Doc. 01-4150 Filed 2-16-01; 8:45 am]

BILLING CODE 4910-13-M